DEPARTMENT OF COMMERCE

National Oceanic and Atmospheric Administration

RIN 0648-XE276

Pacific Fishery Management Council; Public Meeting

AGENCY: National Marine Fisheries Service (NMFS), National Oceanic and Atmospheric Administration (NOAA), Commerce.

ACTION: Notice of public meeting.

SUMMARY: The Pacific Fishery Management Council (Pacific Council) and its advisory entities will hold a seven-day public meeting to consider actions affecting West Coast fisheries in the exclusive economic zone.

DATES: Advisory entities to the Pacific Council will meet beginning at 8 a.m. Friday, November 13, 2015 through Thursday November 19, 2015 as listed in the Schedule of Ancillary Meetings. The Pacific Council general session will begin on Saturday, November 14, 2015 at 8 a.m., reconvening each day through Thursday November 19, 2015. All meetings are open to the public, except a closed session will be held at 3:30 p.m. on Wednesday, November 18 to address litigation and personnel matters. The Pacific Council will meet as late as necessary each day to complete its scheduled business.

ADDRESSES: Meetings of the Council and its advisory entities will be held at the Hyatt Regency Orange County, 11999 Harbor Blvd., Garden Grove, CA 92840; telephone (714) 750-1234. Instructions for attending the meeting via live stream broadcast are given under SUPPLEMENTARY INFORMATION, below.

Council address: Pacific Fishery Management Council, 7700 NE Ambassador Place, Suite 101, Portland, OR 97220.

FOR FURTHER INFORMATION CONTACT: Dr. Donald O. McIsaac, Executive Director, Pacific Fishery Management Council; telephone: (503) 820-2280 or (866) 806-7204 toll free. Access the Pacific Council Web site, http://www.pcouncil.org/council-operations/council-meetings/current-meeting/ for the current meeting location, proposed agendas, and meeting briefing materials.

SUPPLEMENTARY INFORMATION:

Live Stream Broadcast

Saturday, November 14, 2015 at 8 a.m. Through Thursday November 19, 2015

The general session of the Pacific Fishery Management Council will be streamed live on the internet beginning at 8 a.m. Pacific Time (PT) on Saturday, November 14, 2015 at 8 a.m. through Thursday November 19, 2015. The broadcast will end daily at 6 p.m. PT or when business for the day is complete. Only the audio portion, and portions of the presentations displayed on the screen at the Council meeting, will be broadcast. The audio portion is listen-only; you will be unable to speak to the Council via the broadcast. Join the meeting by visiting this link http://www.gotomeeting.com/online/webinar/join-webinar, enter the Webinar ID for this meeting, which is 145-232-603, and enter your email address as required. It is recommended that you use a computer headset as GoToMeeting allows you to listen to the meeting using your computer headset and speakers. If you do not have a headset and speakers, you may use your telephone for the audio portion of the meeting by dialing this toll number 1-951-266-6126 (not a toll free number); entering the phone audio access code 925-719-732; and then entering your Audio Pin which will be shown to you after joining the webinar. The webinar is broadcast in listen-only mode.

Agenda

Saturday, November 14, 2015 at 8 a.m. Through Thursday November 19, 2015

The following items are on the Pacific Council agenda, but not necessarily in this order. Agenda items noted as “(Final Action)” refer to actions requiring the Council to transmit a proposed fishery management plan, proposed plan amendment, or proposed regulations to the Secretary of Commerce, under Sections 304 or 305 of the Magnuson-Stevens Fishery Conservation and Management Act. Additional detail on agenda items, Council action, and meeting rooms, is described in Agenda Item A.4, Proposed Council Meeting Agenda, and will be available in the advance November 2015 briefing materials and posted on the Council Web site http://www.pcouncil.org/council-operations/council-meetings/current-briefing-book/ no later than Thursday, October 29, 2015.

A. Call to Order

1. Opening Remarks

2. Roll Call

3. Executive Director's Report

4. Approve Agenda

B. Open Comment Period

1. Comments on Non-Agenda Items

C. Enforcement Issues

1. Tri-State Enforcement Report

2. Vessel Movement Monitoring Alternatives

D. Salmon Management

1. National Marine Fisheries Service Report

2. Salmon Methodology Review

3. Salmon Management Schedule for 2016

E. Habitat

1. Current Habitat Issues

F. Administrative Matters

1. Briefing on Recusals and Financial Interest Disclosures

2. Legislative Matters

3. Approval of Council Meeting Record

4. Fiscal Matters

5. Membership Appointments and Council Operating Procedures

6. Future Council Meeting Agenda and Workload Planning

G. Highly Migratory Species Management

1. National Marine Fisheries Service Report

2. Swordfish Management Policy Connections

H. Coastal Pelagic Species Management

1. Pacific Sardine Distribution Workshop

2. 2016 Exempted Fishing Permits Notice of Intent

3. Anchovy General Status Overview

4. 2016 Methodology Review Preliminary Topic Selection including Data-Limited Assessment Methods

I. Groundfish Management

1. National Marine Fisheries Service Report

2. Preliminary exempted Fishing Permit Approval

3. Final Approval of Stock Assessments

4. Biennial Harvest Specifications for 2017-18 Groundfish Management Including Final Overfishing Limits and Acceptable Biological Catches (Final Action)

5. Whiting Electronic Monitoring Final Alternative and Regulations (Final Action)

6. Blackgill-Slope Complex Final Reallocation and Accumulation Limits (Final Action)

7. Stock Assessment Prioritization for the 2019-20 Management Cycle

8. Consideration of Inseason Adjustments (Final Action)

9. Biennial Management Measures for 2017-18

J. Pacific Halibut Management

1. Final 2016 Catch Sharing Plan and Management Measures, and Preliminary Sablefish Fishery Incidental Landing Regulations (Final Action)

Advisory Body Agendas

Advisory body agendas will include discussions of relevant issues that are on the Council agenda for this meeting, and may also include issues that may be relevant to future Council meetings. Proposed advisory body agendas for this meeting will be available on the Council Web site http://www.pcouncil.org/council-operations/council-meetings/current-briefing-book/ no later than Thursday, October 29, 2015.

Schedule of Ancillary Meetings

Friday, November 13, 2015

Coastal Pelagic Species Advisory Subpanel convening at 8 a.m.;

Coastal Pelagic Species Management Team convening at 8 a.m.;

Groundfish Electronic Monitoring Policy and Technical Advisory Committees convening at 8 a.m.;

Groundfish Management Team convening at 8 a.m.;

Highly Migratory Species Advisory Subpanel convening at 8 a.m.;

Highly Migratory Species Management Team convening at 8 a.m.;

Scientific and Statistical Committee convening at 8 a.m.;

Habitat Committee convening at 8:30 a.m.;

Legislative Committee convening at 1 p.m.;

Budget Committee convening at 2 p.m.

Saturday, November 14, 2015

California State Delegation convening at 7 a.m.;

Oregon State Delegation convening at 7 a.m.;

Washington State Delegation convening at 7 a.m.;

Coastal Pelagic Species Advisory Subpanel convening at 8 a.m.;

Coastal Pelagic Species Management Team convening at 8 a.m.;

Enforcement Consultants convening at 8 a.m.;

Groundfish Advisory Subpanel convening at 8 a.m.;

Groundfish Management Team convening at 8 a.m.;

Highly Migratory Species Advisory Subpanel convening at 8 a.m.;

Highly Migratory Species Management Team convening at 8 a.m.;

Scientific and Statistical Committee convening at 8 a.m.;

Annual Awards Banquet convening at 6 p.m.

Sunday, November 15, 2015

California State Delegation convening at 7 a.m.;

Oregon State Delegation convening at 7 a.m.;

Washington State Delegation convening at 7 a.m.;

Groundfish Advisory Subpanel convening at 8 a.m.;

Groundfish Management Team convening at 8 a.m.;

Enforcement Consultants convening on an ad hoc basis;

Stock Assessment Briefing convening at 7 p.m.

Monday, November 16, 2015

California State Delegation convening at 7 a.m.;

Oregon State Delegation convening at 7 a.m.;

Washington State Delegation convening at 7 a.m.;

Groundfish Advisory Subpanel convening at 8 a.m.;

Groundfish Management Team convening at 8 a.m.;

Enforcement Consultants convening on an ad hoc basis.

Tuesday, November 17, 2015

California State Delegation convening at 7 a.m.;

Oregon State Delegation convening at 7 a.m.;

Washington State Delegation convening at 7 a.m.;

Groundfish Advisory Subpanel convening at 8 a.m.;

Groundfish Management Team convening at 8 a.m.;

Enforcement Consultants convening on an ad hoc basis.

Wednesday, November 18, 2015

California State Delegation convening at 7 a.m.;

Oregon State Delegation convening at 7 a.m.;

Washington State Delegation convening at 7 a.m.;

Groundfish Advisory Subpanel convening at 8 a.m.;

Groundfish Management Team convening at 8 a.m.;

Enforcement Consultants convening on an ad hoc basis.

Thursday, November 19, 2015

California State Delegation convening at 7 a.m.;

Oregon State Delegation convening at 7 a.m.;

Washington State Delegation convening at 7 a.m.

Although non-emergency issues not contained in this agenda may come before this Council for discussion, those issues may not be the subject of formal Council action during these meetings. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Kristopher Kleinschmidt at least five days prior to the meeting date by: telephone (503) 820-2280; at the Council office (see ADDRESSES); or by email at kris.kleinschmidt@noaa.gov.

Authority: 16 U.S.C. 1801 et seq.

Dated: October 26, 2015.
Tracey L. Thompson,
Acting Deputy Director, Office of Sustainable Fisheries, National Marine Fisheries Service.

[FR Doc. 2015-27591 Filed 10-28-15; 8:45 am]

BILLING CODE 3510-22-P